DEPARTMENT OF THE INTERIOR

Fish and Wildlife Service

Receipt of Applications for Incidental Take Permit for Four Condominium Complexes in Escambia County, Florida

AGENCY: Fish and Wildlife Service, Interior.

ACTION: Notice.

SUMMARY: The Fish and Wildlife Service announces the availability of four habitat conservation plans (HCPs), accompanying applications, and an environmental assessment (EA). One EA has been prepared for the four projects and analyzes the take of Perdido Key beach mice (Peromyscus polionotus trissyllepsis) incidental to developing, constructing, and human occupancy of Acropolis Development Enterprises, LLC, Midnight Property, Lorelei Development, LLC, and The Millennium Group I, LLC (Applicants) four condominium complexes in Escambia County, Florida (Projects). The applicants request incidental take permits (ITPs) pursuant to section 10(a)(1)(B) of the Endangered Species Act of 1973 (Act), as amended. The Applicants' HCPs describe the mitigation and minimization measures proposed to address the effects of the Project to the Perdido Key beach mouse.

DATES: Written comments on the ITP applications and HCPs should be sent to the Fish and Wildlife Service's Regional Office (see ADDRESSES) and should be received on or before July 16, 2007.

ADDRESSES: Documents will be available for public inspection by appointment during normal business hours at the Fish and Wildlife Service's Regional Office, 1875 Century Boulevard, Suite 200, Atlanta, GA 30345 (Attn: Aaron Valenta); or Field Supervisor, Fish and Wildlife Service, 1601 Balboa Avenue, Panama City, FL 32405.

FOR FURTHER INFORMATION CONTACT: Mr. Aaron Valenta, Regional HCP Coordinator (see ADDRESSES), telephone: 404/679-4144, or Ms. Sandra Sneckenberger, Field Office Project Manager (see ADDRESSES), at 850/769-0552, ext. 239.

SUPPLEMENTARY INFORMATION: We specifically request information, views, and opinions from the public via this notice on the Federal action, including the identification of any other aspects of the human environment not already identified in the EA. Further, we specifically solicit information regarding the adequacy of the HCPs as measures against our ITP issuance criteria found in 50 CFR parts 13 and 17.

The EA is an assessment of the likely environmental impacts associated with the Projects and considers the environmental consequences of two alternatives and the proposed action. The proposed action alternative is issuance of the ITPs and implementation of the HCPs as submitted by the Applicants. The HCPs provide for: (1) Minimizing the footprint of the development; (2) restoring, preserving, and maintaining onsite beach mouse habitat at the project site; (3) incorporating requirements in the operation of the residence that provide for the conservation of the beach mouse; (4) monitoring the status of the beach mouse at the project site post-construction; (5) donating funds initially and on an annual basis to Perdido Key beach mouse conservation efforts; (6) including conservation measures to protect nesting sea turtles and non-breeding piping plover; and, (7) funding the mitigation measures.

If you wish to comment, you may submit comments by any one of several methods. Please reference permit numbers TE-143687-0, TE-143686-0, TE-143685-0, and TE-143688-0 in such comments. You may mail comments to the Fish and Wildlife Service's Regional Office (see ADDRESSES). You may also comment via the internet to aaron_valenta@fws.gov. Please include your name and return address in your internet message. If you do not receive a confirmation from us that we have received your internet message, contact us directly at either telephone number listed below (see FURTHER INFORMATION CONTACT).

Finally, you may hand-deliver comments to either Fish and Wildlife Service office listed (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The areas encompassed under the four ITPs total 5.77 acres along the beachfront of the Gulf of Mexico. Three of the projects are located on the western portion of Perdido Key, a 16.9 mile barrier island, and one project is located centrally on the Key. Perdido Key constitutes the entire historic range of the Perdido Key beach mouse.

We will evaluate the HCPs, applications and any received comments to determine whether the applications meet the requirements of section 10(a) of the Act. If it is determined that those requirements are met, the ITPs will be issued for the incidental take of the Perdido Key beach mouse. We will also evaluate whether issuance of the section 10(a)(1)(B) ITPs comply with section 7 of the Endangered Species Act by conducting an intra-Service section 7 consultation. The results of this consultation, in combination with the above findings, will be used in the final analysis to determine whether or not to issue the ITPs.

Dated: February 13, 2007.
Jackie Parrish,
Acting Regional Director.

[FR Doc. E7-9484 Filed 5-16-07; 8:45 am]

BILLING CODE 4310-55-P